DEPARTMENT OF TRANSPORTATION

Maritime Administration

[Docket No. MARAD-2026-0067]

Request for Comments of a Previously Approved Information Collection: Determination of Fair and Reasonable Rates for Carriage of Agriculture Cargoes on U.S. Commercial Vessels—46 CFR 382

AGENCY: Maritime Administration (MARAD), Department of Transportation (DOT).

ACTION: Notice and request for comments.

SUMMARY: In compliance with the Paperwork Reduction Act of 1995, this notice announces that the Information Collection Request (ICR) summarized below is being forwarded to the Office of Management and Budget (OMB) for review and comment. A Federal Register Notice with a 60-day comment period soliciting comments on the following information collection was published by MARAD on November 28, 2025.

DATES: Comments must be submitted on or before February 26, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Albert L. Bratton III, (202) 366-5769, Office of Business Finance, Maritime Administration, U.S. Department of Transportation, 1200 New Jersey Avenue SE, Washington, DC 20590.

SUPPLEMENTARY INFORMATION:

Title: Determination of Fair and Reasonable Rates for Carriage of Agriculture Cargoes on U.S. Commercial Vessels—46 CFR 382.

OMB Control Number: 2133-0514.

Type of Request: Extension without change of a previously approved information collection.

Abstract: This collection requires U.S.-flag commercial vessel owners and operators to submit both operating and capital costs to MARAD annually.

Respondents: U.S. citizens who own and operate U.S.-flag vessels.

Affected Public: Business or other for profit.

Estimated Number of Respondents: 22.

Total Estimated Number of Responses: 26.

Estimated Hours per Response: 1-10 hours.

Total Estimated Number of Annual Burden Hours: 134.

Frequency of Collection: Annually.

(Authority: The Paperwork Reduction Act of 1995; 44 U.S.C. Chapter 35, as amended; and 49 CFR 1.93)

By Order of the Maritime Administrator.
T. Mitchell Hudson, Jr.,
Secretary, Maritime Administration.

[FR Doc. 2026-01583 Filed 1-26-26; 8:45 am]

BILLING CODE 4910-81-P